SURFACE TRANSPORTATION BOARD

[Docket No. EP 290 (Sub-No. 5) (2023-4)]

Quarterly Rail Cost Adjustment Factor

AGENCY: Surface Transportation Board.

ACTION: Approval of rail cost adjustment factor.

SUMMARY: The Board has approved the fourth quarter 2023 Rail Cost Adjustment Factor (RCAF) and cost index filed by the Association of American Railroads. The fourth quarter 2023 RCAF (Unadjusted) is 1.012. The fourth quarter 2023 RCAF (Adjusted) is 0.401. The fourth quarter 2023 RCAF-5 is 0.384.

DATES: Applicability Date: October 1, 2023.

FOR FURTHER INFORMATION CONTACT: Pedro Ramirez at (202) 245-0333. If you require an accommodation under the Americans with Disabilities Act, please call (202) 245-0245.

SUPPLEMENTARY INFORMATION: Additional information is contained in the Board's decision, which is available at www.stb.gov.

Decided: September 18, 2023.
By the Board, Board Members Fuchs, Hedlund, Oberman, Primus, and Schultz.
Tammy Lowery,
Clearance Clerk.

[FR Doc. 2023-20683 Filed 9-22-23; 8:45 am]

BILLING CODE 4915-01-P